NUCLEAR REGULATORY COMMISSION

Nuclear Power Plants That Employ Boiling-Water Reactor (BWR) Mark I and II Designs Receipt of Request for Action Under 10 CFR 2.206

Notice is hereby given that by petition dated August 10, 2004, the Nuclear Security Coalition (Coalition), consisting of 39 separate organizations, has requested that the Nuclear Regulatory Commission (NRC) take action to: (1) Issue a demand for information to the licensees for all Mark I and II BWRs and conduct a 6-month study of options for addressing structural vulnerabilities; (2) present the findings of the study at a national conference attended by all interested stakeholders, providing for transcribed comments and questions; (3) develop a comprehensive plan that accounts for stakeholder concerns and addresses structural vulnerabilities of all Mark I and II BWRs within a 12-month period; (4) issue orders to the licensees for all Mark I and II BWRs compelling incorporation of a comprehensive set of protective measures, including structural protections; and (5) make future operation of each Mark I and II BWR contingent on addressing its structural vulnerability with participation and oversight by a panel of local stakeholders.

As the basis for this request, the Coalition states that nuclear power plants are critical national infrastructures and are prime targets of attacks, that the NRC “requires only a light defense of nuclear power plants,” and that BWRs of the Mark I and II designs are particularly vulnerable.

The petition is being treated pursuant to 10 CFR 2.206 of the Commission's regulations. The petition has been referred to the Director of the Office of Nuclear Reactor Regulation. As provided by section 2.206, appropriate action will be taken on this petition within a reasonable time. Members of the Coalition met with the Petition Review Board (PRB) on September 23, 2004, to discuss the petition; the summary of the meeting, with the transcript attached, was published on October 13, 2004. The results of that discussion have been considered in the PRB's determination regarding the Coalition's request for action and in establishing the schedule for reviewing the petition. A copy of the petition, and the meeting summary dated October 13, 2004, are available for inspection at the Commission's Public Document Room, located at One White Flint North, Public File Area O1 F21, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 19th day of October 2004.
For the Nuclear Regulatory Commission.
J.E. Dyer,
Director, Office of Nuclear Reactor Regulation.

[FR Doc. 04-24014 Filed 10-26-04; 8:45 am]

BILLING CODE 7590-01-P